INTERNATIONAL BOUNDARY AND WATER COMMISSION, UNITED STATES AND MEXICO

United States Section; Notice of Availability of a Draft Environmental Assessment and Draft Finding of No Significant Impact for Alternatives for Improved Flood Control of the Hidalgo Protective Levee System

AGENCY: United States Section, International Boundary and Water Commission, United States and Mexico (USIBWC).

ACTION: Notice of availability of draft Environmental Assessment (EA) and draft Finding of No Significant Impact (FONSI).

SUMMARY: Pursuant to section 102(2)(c) of the National Environmental Policy Act of 1969; the Council on Environmental Quality Final Regulations (40 CFR parts 1500 through 1508); and the U.S. Section's Operational Procedures for Implementing Section 102 of NEPA, published in the Federal Register September 2, 1981 (46 FR 44083), the USIBWC hereby gives notice that the Draft EA and Draft FONSI are available for Alternatives for Improved Flood Control of the Hidalgo Protective Levee System located in Hidalgo County, Texas.

The Hidalgo Protective Levee System was recently identified as a priority area for flood control improvement. The USIBWC is considering alternatives to raise the 4.5-mile levee system in two construction phases, each covering separate geographic reaches of the Hidalgo Protective Levee System. The phased construction approach responds to the likely availability of early funding for Phase 1, the upstream reach of the project. Alternatives under consideration to improve the Hidalgo Protective Levee System would expand the levee footprint by lateral extension of the structure. Levee footprint increases toward the riverside could potentially extend into floodplain areas designated by the U.S. Fish and Wildlife Service as part of the Lower Rio Grande Valley National Wildlife Refuge System. Footprint increases toward the levee landside could extend beyond the USIBWC right-of-way. Soil borrow easements would be used to secure levee material.

The EA explains the purpose and need for the Proposed Action, and assesses its potential environmental impacts. The EA also analyzes the No Action Alternative and two alternatives to the Proposed Action: the Phase 2 Footprint Expansion Alternative and the No-Footprint Expansion Alternative. The Proposed Action for Phase 1 of the project is to increase existing levee height with the associated increase in footprint (Phase 1 Footprint Expansion Alternative). This alternative would increase flood containment capacity by raising the height of the existing compacted earthen levee from 3 to 8 feet to meet a 3-foot freeboard requirement indicated by results of hydraulic modeling.

The Proposed Action for Phase 2 requires partial rerouting of the 1.2-mile downstream reach of the levee system (Partial Levee Rerouting Alternative). Levee rerouting would eliminate the need for construction of a floodwall in front of the Hidalgo Historic Pumphouse, a resource eligible for inclusion in the National Register of Historic Places, and a future site of the World Birding Center, a project by the City of Hidalgo and the Texas Parks and Wildlife Department. A new levee segment, approximately 0.7 mile in length, would be built along the south margin of the pumphouse intake channel, and the channel would be crossed to tie the new structure to the existing levee system. Floodwall placement would be required along the Hidalgo-Reynosa International Bridge.

On the basis of the Draft EA, the USIBWC has determined that an environmental impact statement is not required to implement the Proposed Action, and hereby provides notice of a Finding of No Significant Impact. An environmental impact statement will not be prepared unless additional information which may affect this decision is brought to our attention within thirty (30) days of the date of this Notice of Availability.

The Draft EA and Draft FONSI have been sent to various federal, state, and local agencies and interested parties. The Draft EA and Draft FONSI are available under “What's New?” on the USIBWC home page at /http://www.ibwc.state.gov; and at the USIBWC Mercedes Field Office at 325 Golf Course Road, Mercedes, TX 78570.

DATES: Written comments on the Draft EA and Draft FONSI will be accepted through August 8, 2005.

ADDRESSES: Written comments and inquiries on the Draft EA and Draft FONSI should be directed to Mr. Daniel Borunda, 4171 N. Mesa, Suite C-100, El Paso, Texas 79902. Phone: (915) 832-4701, Fax: (915) 832-4167, e-mail: danielborunda@ibwc.state.gov.

Dated: June 30, 2005.
Susan E. Daniel,
General Counsel.

[FR Doc. 05-13426 Filed 7-7-05; 8:45 am]

BILLING CODE 4710-03-P